DEPARTMENT OF COMMERCE

National Oceanic and Atmospheric Administration

50 CFR Part 648

[Docket No. 151130999-6225-01]

RIN 0648-XE782

Fisheries of the Northeastern United States; Atlantic Bluefish Fishery; Quota Transfer

AGENCY: National Marine Fisheries Service (NMFS), National Oceanic and Atmospheric Administration (NOAA), Commerce.

ACTION: Temporary rule; quota transfer.

SUMMARY: NMFS announces that the State of Florida is transferring a portion of its 2016 commercial bluefish quota to the State of New York. These quota adjustments are necessary to comply with the Atlantic Bluefish Fishery Management Plan quota transfer provision. This announcement informs the public of the revised commercial quotas for Florida and New York.

DATES: Effective August 15, 2016, through December 31, 2016.

FOR FURTHER INFORMATION CONTACT: Elizabeth Scheimer, Fishery Management Specialist, (978) 281-9236.

SUPPLEMENTARY INFORMATION: Regulations governing the Atlantic bluefish fishery are found in 50 CFR 648.160 through 648.167. The regulations require annual specification of a commercial quota that is apportioned among the coastal states from Maine through Florida. The process to set the annual commercial quota and the percent allocated to each state are described in § 648.162.

The final rule implementing Amendment 1 to the Bluefish Fishery Management Plan published in the Federal Register on July 26, 2000 (65 FR 45844), and provided a mechanism for transferring bluefish quota from one state to another. Two or more states, under mutual agreement and with the concurrence of the Administrator, Greater Atlantic Region, NMFS (Regional Administrator), can transfer or combine bluefish commercial quota under § 648.162(e)(1)(i) through (iii). The Regional Administrator is required to consider the criteria in § 648.162(e) in the evaluation of requests for quota transfers or combinations.

Florida is transferring 50,000 lb (22,679 kg) of Atlantic bluefish commercial quota to New York. This quota transfer was requested by the State of New York to ensure that its 2016 quota would not be exceeded. The Regional Administrator has determined that the criteria set forth in § 648.162(e)(1)(i) through (iii) have been met. The revised bluefish quotas for calendar year 2016 are: Florida, 391,394 lb (177,533 kg); and New York, 587,289 lb (266,390 kg). These quotas are based on the final rule implementing the 2016-2018 Atlantic Bluefish Specifications that became effective August 4, 2016, inclusive of previous commercial bluefish transfers that were implemented in that rule.

Classification

This action is taken under 50 CFR part 648 and is exempt from review under Executive Order 12866.

Authority: 16 U.S.C. 1801 et seq.

Dated: August 11, 2016.
Emily H. Menashes,
Acting Director, Office of Sustainable Fisheries, National Marine Fisheries Service.

[FR Doc. 2016-19504 Filed 8-15-16; 8:45 am]

BILLING CODE 3510-22-P